INTERNATIONAL TRADE COMMISSION

[Investigation No. 337-TA-1161]

Certain Food Processing Equipment and Packaging Materials Thereof; Institution of Investigation

AGENCY: U.S. International Trade Commission.

ACTION: Notice.

SUMMARY: Notice is hereby given that a complaint was filed with the U.S. International Trade Commission on March 12, 2019, under section 337 of the Tariff Act of 1930, as amended, on behalf of 3-A Sanitary Standards, Inc. of McLean, Virginia. A first amended complaint was filed on May 14, 2019, and a second amended complaint was filed on June 3, 2019. The complaint, as amended, alleges violations of section 337 based upon the importation or sale of certain food processing equipment and packaging materials thereof by reason of false advertising and unfair competition, the threat or effect of which is to destroy or substantially injure an industry in the United States.

The complainant requests that the Commission institute an investigation and, after the investigation, issue a general, or in the alternative a limited exclusion order, and cease and desist orders.

ADDRESSES: The amended complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations or U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2019).

Scope of Investigation: Having considered the amended complaint, the U.S. International Trade Commission, on June 11, 2019, Ordered that—

(1) Pursuant to subsection (b) of section 337 of the Tariff Act of 1930, as amended, an investigation be instituted to determine whether there is a violation of subsections (a)(1)(A) of section 337 in the importation or sale of certain products identified in paragraph (2) by reason of false advertising and unfair competition under Section 43(a) of the Lanham Act, 15 U.S.C. 1125(a), the threat or effect of which is to destroy or substantially injure an industry in the United States;

(2) Pursuant to section 210.10(b)(1) of the Commission's Rules of Practice and Procedure, 19 CFR 210.10(b)(1), the plain language description of the accused products or category of accused products, which defines the scope of the investigation, is “certain food processing equipment and packaging materials thereof, namely, valves (including clamped cleaning balls), clamps (including hygienic fittings clamps), and fittings (including sanitary elbow, sanitary clamp elbows, and pipe fittings), and packaging materials thereof”;

(3) For the purpose of the investigation so instituted, the following are hereby named as parties upon which this notice of investigation shall be served:

(a) The complainant is:

3-A Sanitary Standards, Inc., 6888 Elm Street, Suite 2D, McLean, VA 22101

(b) The respondents are the following entities alleged to be in violation of section 337, and are the parties upon which the amended complaint is to be served:

Wenzhou QiMing Stainless Co., Ltd., No. 659 Dingxiang Road, Binhai Industry Zone, Wenxhou, Zhejiang, China 325025

High MPa Valve Manufacturing Co., Ltd., No. 97, Road 15, Avenue 4, Economic and Technological Zone, Wenzhou, Zhejiang, China 325024

Wenzhou Sinco Steel Co, Ltd., 167 Ningcheng West Road, Ningcheng Industry Zone, Yongzhong, Longwan District, Wenzhou, China 325024

Wenzhou Kasin Valve Pipe Fitting Co., Ltd., Binhai Industry Zone, Wenzhou Economy & Technology Development Zone, E, Wenzhou, China 325000

Wenzhou Fuchuang Machinery Co., Ltd., Binhai Industrial Park, Shacheng Town, Longwan District, Wenzhou, Zhejiang, China 325024

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: June 12, 2019.
Lisa Barton,
Secretary to the Commission.

[FR Doc. 2019-12791 Filed 6-17-19; 8:45 am]

BILLING CODE 7020-02-P